COMMISSION ON CIVIL RIGHTS

Notice of Public Meeting of the Tennessee Advisory Committee, Revision of Virtual Meeting Platform and Additional Meeting Information

AGENCY: Commission on Civil Rights.

ACTION: Notice; revision of virtual meeting platform and additional meeting information.

SUMMARY: The Commission on Civil Rights is holding a meeting of the Tennessee Advisory Committee on Wednesday, August 24, 2022, at 12:00 p.m. (CT). This notice revises the meeting date and virtual meeting information. The notice is in the Federal Register of Wednesday, August 3, 2022 on FR Doc 2022-13390, in the second column of page 37496 and the first column of 37497.

FOR FURTHER INFORMATION CONTACT: Victoria Moreno, (434) 515-0204, vmoreno@usccr.gov.

Revision: The meeting will now take place on Wednesday, August 24, 2022, at 12:00 p.m. (CT) and not Wednesday, August 3, 2022.

Replace Webex virtual details as follows: https://civilrights.webex.com/civilrights/j.php?MTID=mab53dc5460800e198ea35953e0241884.

Join via phone: 800-360-9505 USA Toll Free; Access Code: 2763 908 5121#.

Dated: July 6, 2022.
David Mussatt,
Supervisory Chief, Regional Programs Unit.

[FR Doc. 2022-14734 Filed 7-11-22; 8:45 am]

BILLING CODE P